DEPARTMENT OF JUSTICE

Notice of Lodging of Consent Decree Under the Comprehensive Environmental Response, Compensation, and Liability Act

Notice is hereby given that on January 3, 2005, an electronic version of a proposed consent decree was lodged in United States v. Reichhold Limited, et al., No. 5:03-CV-0077-3 (CAR) (M.D. Ga.). The consent decree settles the United States claims against Reichold Limited, Reichhold, Inc; Canadyne Corporation, and Canadyne-Georgia Corporation under Sections 106 and 107 the Comprehensive Environmental Response, Compensation, and Liability Act (“CERCLA”), 42 U.S.C. 9606, 9607, in conneciton with the Woolfolk Chemical Superfund Site in Fort Valley, Georgia (the “Site”). Under the proposed consent decree Reichhold Limited, Reichhold, Inc; Canadyne Corporation, and Canadyne-Georgia Corporation will pay $5 million in four annual installments of $1.25 million each, plus interest from the first payment date. The funds will be placed into a Superfund special account for the Site.

The Department of Justice will receive for a period of thirty (30) days from the date of this publication comments relating to the consent decree. Comments should be addressed to the Assistant Attorney General, Environment and Natural Resources Division, P.O. Box 7611, U.S. Department of Justice, Washington, DC 20044-7611, and should refer to United States v. Reichhold Limited, et al., No. 5:03-CV-0077-3 (CAR) (M.D. Ga.) and DOJ #90-11-3-07282.

The consent decree may be examined at the Office of the United States Attorney for the Middle District of Georgia, 433 Cherry St., Macon, Georgia 31202. During the public comment period, the consent decree may also be examined on the following Department of Justice Web site: http://www.usdoj.gov/enrd/open.html. A copy of the consent decree may also be obtained by mail from the Consent Decree Library, PO Box 7611, U.S. Department of Justice, Washington, DC 20044-7511, or by faxing or e-mailing a request to Tonia Fleetwood, tonia.fleetwood@usdoj.gov, Fax No. (202) 514-0097, phone confirmation number (202) 514-1547. In requesting a copy from the Consent Decree Library, please enclose a check in the amount of $8.25 (25 cents per page reproduction cost) payable to the U.S. Treasury.

Ellen M. Mahan,
Assistant Chief, Environmental Enforcement Section, Environment and Natural Resources Division.

[FR Doc. 05-1444 Filed 1-25-05; 8:45 am]

BILLING CODE 4410-15-M